ENVIRONMENTAL PROTECTION AGENCY

[EPA-HQ-OPP-2010-0012; FRL-8848-3]

Notice of Receipt of Several Pesticide Petitions Filed for Residues of Pesticide Chemicals in or on Various Commodities

AGENCY: Environmental Protection Agency (EPA).

ACTION: Notice.

SUMMARY: This notice announces the Agency's receipt of several initial filings of pesticide petitions proposing the establishment or modification of regulations for residues of pesticide chemicals in or on various commodities.

DATES: Comments must be received on or before November 26, 2010.

ADDRESSES: Submit your comments, identified by docket identification (ID) number and the pesticide petition number (PP) of interest as shown in the body of this document, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket Facility's normal hours of operation (8:30 a.m. to 4 p.m., Monday through Friday, excluding legal holidays). Special arrangements should be made for deliveries of boxed information. The Docket Facility telephone number is (703) 305-5805.

Instructions: Direct your comments to the docket ID number and the pesticide petition number of interest as shown in the body of this document. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov Web site is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: A contact person, with telephone number and e-mail address, is listed at the end of each pesticide petition summary. You may also reach each contact person by mail at Registration Division (7505P), Office of Pesticide Programs, Environmental Protection Agency, 1200 Pennsylvania Ave., NW., Washington, DC 20460-0001.

SUPPLEMENTARY INFORMATION:

I. General Information

A. Does this action apply to me?

You may be potentially affected by this action if you are an agricultural producer, food manufacturer, or pesticide manufacturer. Potentially affected entities may include, but are not limited to:

• Crop production (NAICS code 111).

• Animal production (NAICS code 112).

• Food manufacturing (NAICS code 311).

• Pesticide manufacturing (NAICS code 32532).

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed at the end of the pesticide petition summary of interest.

B. What should I consider as I prepare my comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What action is the agency taking?

EPA is announcing its receipt of several pesticide petitions filed under section 408 of the Federal Food, Drug, and Cosmetic Act (FFDCA), 21 U.S.C. 346a, proposing the establishment or modification of regulations in 40 CFR part 174 or part 180 for residues of pesticide chemicals in or on various food commodities. EPA has determined that the pesticide petitions described in this notice contain the data or information prescribed in FFDCA section 408(d)(2); however, EPA has not fully evaluated the sufficiency of the submitted data at this time or whether the data support granting of the pesticide petitions. Additional data may be needed before EPA can make a final determination on these pesticide petitions.

Pursuant to 40 CFR 180.7(f), a summary of each of the petitions that are the subject of this notice, prepared by the petitioner, is included in a docket EPA has created for each rulemaking. The docket for each of the petitions is available online at http://www.regulations.gov.

As specified in FFDCA section 408(d)(3), (21 U.S.C. 346a(d)(3)), EPA is publishing notice of the petition so that the public has an opportunity to comment on this request for the establishment or modification of regulations for residues of pesticides in or on food commodities. Further information on the petition may be obtained through the petition summary referenced in this unit.

New Tolerances

1. PP 0E7748. (EPA-HQ-OPP-2010-0637). IR-4 Project Headquarters, Rutgers, the State University of New Jersey, 500 College Road East, Suite 201 W, Princeton, NJ 08540, proposes to establish tolerances in 40 CFR part 180 for residues of the dessicant, defoliant, and herbicide paraquat dichloride, (1,1′-dimethyl-4,4′-bipyridinium-ion) derived from application of either the bis(methyl sulfate) or the dichloride salt (both calculated as the cation), in or on the following perennial tropical and sub-tropical fruit trees: Sugar apple, cherimoya, atemoya, custard apple, ilama, soursop, biriba, lychee, longan, Spanish lime, rambutan, pulasan, star apple, black sapote, mango, sapodilla, canistel, mamey sapote, feijoa, jaboticaba, wax jambu, starfruit (carambola), pawpaw, pomegranate, and white sapote at 0.05 parts per million (ppm). An adequate analytical method (spectrometric method) has been accepted and published in the Pesticide Analytical Manual (PAM Vol. II) for the enforcement of tolerances in plant commodities. Contact: Andrew Ertman, (703) 308-9367, e-mail address: ertman.andrew@epa.gov.

2. PP 0F7751. (EPA-HQ-OPP-2010-0760). BASF Corporation, P.O. 13528, Research Triangle Park, NC 27709, proposes to establish a tolerance in 40 CFR part 180 for residues of the fungicide dimethomorph, [(E,Z)4-[3-(4-chlorophenyl)-3-(3,4-dimethoxyphenyl)-1-oxo-2-propenyl]-morpholine], in or on grape at 3.5 ppm. A reliable method for the determination of dimethomorph residues in grapes exists; this method is the Food and Drug Administration (FDA) Multi-Residue Method, Protocol D, as published in the PAM Vol. I. Contact: Shaunta Hill, (703) 347-8961, e-mail address: hill.shaunta@epa.gov.

3. PP 0F7765. (EPA-HQ-OPP-2010-0780). BASF Corporation, 26 Davis Drive, Research Triangle Park, NC 27709, proposes to establish a tolerance in 40 CFR part 180 for residues of the fungicide prohexadione calcium, (calcium 3-oxido-5-oxo-4-propionylcyclohex-3-enecarboxylate), in or on cherry, sweet at 0.5 ppm. The method of analysis included extraction and liquid chromatography (LC)/MS/MS quantitation. The limit of quantitation (LOQ) is 0.01 ppm. Contact: Rose Mary Kearns, (703) 305-5611, e-mail address: kearns.rosemary@epa.gov.

4. PP 9F7661. (EPA-HQ-OPP-2010-0349). Mitsui Chemicals Agro, Inc., c/o Landis International, Inc., P.O. Box 5126, Valdosta, GA 31603-5126, proposes to establish a tolerance in 40 CFR part 180 for residues of the fungicide penthiopyrad, (RS)-N-[2-(1,3-dimethylbutyl)-3-thienyl]-1-methyl-3-(trifluoromethyl)-pyrazole-4-carboxamide, in or on fruit, pome, group 11 at 0.4 ppm; apple, wet pomace at 1.0 ppm; fruit, stone, group 12 at 4.0 ppm; low growing berry, subgroup 13-07G at 3.0 ppm; vegetable, bulb, group 3 at 4.0 ppm; vegetable, Brassica head and stem, subgroup 5A at 8.0 ppm; vegetable, Brassica leafy, subgroup 5B at 45 ppm; vegetable, fruiting, group 8 at 2.5 ppm; tomato, paste at 5.0 ppm; vegetable, cucurbit, group 9 at 1.0 ppm; vegetable, leafy, except Brassica, group 4 at 20 ppm; vegetable, root, subgroup 1A at 2.5 ppm; vegetable, tuberous and corm, subgroup 1C at 0.06 ppm; vegetables, leaves of root and tuber, group 2 at 55 ppm; vegetable, edible-podded legume, subgroup 6A at 2.5 ppm; vegetable, succulent, shelled peas and beans, subgroup 6B at 0.4 ppm; vegetable, pea and bean, dried shelled, except soybean, subgroup 6C at 0.3 ppm; soybean, seed at 0.3 ppm; soybean, hulls at 1.0 ppm; peanut, nutmeat at 0.04 ppm; grain, cereal (except corn, millet, sorghum) at 0.2 ppm; corn, field, sweet, pop at 0.01 ppm; corn, refined oil at 0.03 ppm; cereal grain, millet at 0.9 ppm; cereal grain, sorghum at 0.9 ppm; nut, tree, group 14 (including pistachios) at 0.05 ppm; almond, hulls at 6.0 ppm; canola at 1.0 ppm; sunflower at 0.8 ppm; cotton, seed at 0.35 ppm; cotton, gin byproducts at 10 ppm; alfalfa, forage at 10 ppm; alfalfa, hay at 25 ppm; foliage of legume vegetables, group 7, hay at 80 ppm; foliage of legume vegetables, group 7, vines/forage at 30 ppm; peanut, hay at 50 ppm; grain, cereal, group 16, hay at 90; grain, cereal, group 16, forage at 25 ppm; grain, cereal, group 16, straw at 2 ppm; grain, cereal, stover at 11 ppm and establishing tolerances for residues of penthiopyrad, (RS)-N-[2-(1,3-dimethylbutyl)-3-thienyl]-1-methyl-3-(trifluoromethyl)-pyrazole-4-carboxamide and its major metabolite PAM (1-methyl-3-trifluoromethyl-1H-pyrazole-4-carboxamide) in animal commodities: Hog, meat at 0.01 ppm; hog, fat at 0.01 ppm; hog, liver at 0.01 ppm; hog, kidney at 0.01 ppm; hog, meat byproducts at 0.01 ppm; cattle, meat at 0.05; cattle, fat at 0.05 ppm; cattle, liver at 0.2 ppm; cattle, kidney at 0.1 ppm; cattle, meat byproducts at 0.2 ppm; sheep, meat at 0.01 ppm; sheep, fat at 0.02 ppm; sheep, liver at 0.05 ppm; sheep, kidney at 0.02 ppm; sheep, meat byproducts at 0.05 ppm; milk at 0.05 ppm; milk, fat at 0.01 ppm; poultry, meat at 0.01 ppm; poultry, fat at 0.01 ppm; poultry, liver at 0.01 ppm; poultry, meat byproducts at 0.01 ppm; poultry, eggs at 0.01 ppm. Adequate enforcement methods are available to enforce the proposed tolerances. Samples of plant matrices from field residue trials were analyzed for penthiopyrad and its metabolites using a validated residue method, which involves the extraction of analytes from crops, hydrolysis of conjugates, partition of analytes, followed by LC/MS/MS detection. The limit of quantification (LOQ) is 0.01 milligrams/kilograms (mg/kg) for most matrices except for very dry matrices, e.g., pea hay, for which the LOQ is 0.05 mg/kg. An LC/MS/MS residue method has been used in the animal feeding studies and is proposed for enforcement purposes. The method involves the extraction of analytes from animal matrices and LC/MS/MS detection. This method has been validated for the determination of penthiopyrad and its metabolites in chicken tissues, eggs, ruminant tissues and milk. The limit of quantification is 0.01 mg/kg for all animal matrix groups. Contact: Tawanda Maignan, (703) 308-8050, e-mail address: maignan.tawanda@epa.gov.

5. PP 9G7677. (EPA-HQ-OPP-2010-0346). State of Florida, Department of Citrus, 605 East Main Street, P.O. Box 9010, Bartow, FL 33831-9010, proposes to establish temporary tolerances in 40 CFR part 180 for residues of the fungicide 5-chloro-3-methyl-4-nitro-1H-pyrazole (CMNP) and its metabolite (5-chloro-4-nitro-1H-pyrazol-3-yl)-methanol (CHNP), in or on orange at 0.80 ppm; and its processed commodities: Orange, juice at 0.025 ppm; orange, oil at 0.070 ppm; orange, dried pulp (also referred to as dried pomace) at 1.80 ppm. In all plant matrices, the residue of concern, parent CMNP and CHNP/CHNP glucoside, can be determined using HPLC/MS/MS following sample extraction, hydrolysis (to convert CHNP-glucoside to its aglycone, CHNP) and solid-phase cleanup. Contact: Tawanda Maignan, (703) 308-8050, e-mail address: maignan.tawanda@epa.gov.

Amended Tolerance

PP 0F7776. (EPA-HQ-OPP-2009-0012 Dow AgroSciences LLC, 9330 Zionsville Road, Indianapolis, IN 46268, proposes to reestablish the time-limited tolerances in 40 CFR 180.544 for indirect or inadvertent combined residues of the insecticide methoxyfenozide, (benzoic acid, 3-methoxy-2-methyl-, 2-(3,5-dimethylbenzoyl)-2-(1,1-dimethylethyl) hydrazide) and its metabolites RH-117,236 free phenol of methoxyfenozide; 3,5-dimethylbenzoic acid N-tert-butyl-N′-(3-hydroxy-2-methylbenzoyl) hydrazide, RH-151,055 glucose conjugate of RH-117,236; 3,5-dimethylbenzoic acid N-tert-butyl-N-[3 (β-D-glucopyranosyloxy)-2-methylbenzoyl]-hydrazide) and RH-152,072 the malonylglycosyl conjugate of RH-117,236, in or on the raw agricultural commodities: Vegetable, root and tuber, group 1 at 0.1 ppm; vegetable, leaves of root and tuber, group 2 at 0.2 ppm; vegetable, bulb, group 3 at 0.2 ppm; vegetable, legume, group 6 at 0.1 ppm; vegetable, foliage of legume, group 7 at 10 ppm; grain, cereal, forage, fodder, and straw, group 16 at 10 ppm; grass, forage, fodder and hay, group 17 at 10 ppm; animal feed, non-grass, group 18 at 10 ppm; and herb and spice, group 19 at 10 ppm. Rohm and Haas Company, requested these tolerances under the Federal Food, Drug and Cosmetic Act, as amended by the Food Quality Protection Act of 1996. A Notice of Filing was submitted and published in the Federal Register of March 19, 2001 (66 FR 15443) (FRL 6766-7). Based on the data submitted by Rohm and Haas Company, the Agency determined that only time-limited tolerances for these residues could be established. The Final Rule was published in the Federal Register of September 20, 2002 (67 FR 59193) (FRL-7198-5) with time-limited tolerances expiring on September 30, 2007. To enable establishment of permanent tolerances, 24 additional rotational crop trials were requested. The data were submitted to the Agency on March 3, and June 17, 2003. A Final Rule extending these time-limited tolerances to September 30, 2010, was subsequently published in the Federal Register of March 5, 2008 (73 FR 11820) (FRL-8352-2). A further extension of the tolerances set to expire September 30, 2013, is needed to allow for conclusion of the Agency review of the additional rotational crop data. Adequate enforcement methods are available for determination of methoxyfenozide residues in plant commodities, based on the Rohm and Haas Company Technical Report No. 34-98-87, “Tolerance Enforcement Method for Parent RH-2485 in Pome Fruit”. The available Analytical Enforcement Methodology was previously reviewed in the Federal Register of September 20, 2002 (67 FR 59193) (FRL-7198-5). Contact: Clayton Myers, (703) 347-8874, e-mail address: myers.clayton@epa.gov.

List of Subjects

Environmental protection, Agricultural commodities, Feed additives, Food additives, Pesticides and pests, Reporting and recordkeeping requirements.

Dated: October 14, 2010.
G. Jeffrey Herndon,
Acting Director, Registration Division, Office of Pesticide Programs.

[FR Doc. 2010-26731 Filed 10-26-10; 8:45 am]

BILLING CODE 6560-50-P